DEPARTMENT OF LABOR

Employment and Training Administration

[TA-W-37,011]

Cooper Energy Services, Grove City, Pennsylvania; Notice of Revised Determination on Reconsideration

On April 27, 200, the Department issued an Affirmative Determination Regarding Application for Reconsideration for the workers and former worker of the subject firm. The notice was published in the Federal Register on May 4, 2000 (65 FR 25947).

Investigation findings show that the workers are primarily engaged in the production of castings and machined components. The worker were denied TAA because the “contributed importantly” test of the Group Eligibility Requirements of the Trade Act was not met. The workers were denied NAFTA-TAA on the basis that there was no shift in production to Mexico or Canada, nor were there company or customer imports of castings or machined components from Mexico or Canada.

The petitioners presented evidence that some of the production of pistons was shifted to Canada and is being returned to the United States.

New information obtained from the subject firm on reconsideration reveal that for a short period of time during which the machining centers were being transferred from Grove City, Pennsylvania, to another domestic location, the company source machined components from a Canadian firm. Other findings on reconsideration show that the company is increasing its reliance on castings from Mexico.

Conclusion

After careful consideration of the new facts obtained on reconsideration, it is concluded that the workers of Cooper Energy Services, Grove City, Pennsylvania, were adversely affected by increased imports, including those from Canada and Mexico, of articles like or directly competitive with castings and machined components produced at the subject firm.

“All workers of Cooper Energy Services, Grove City, Pennsylvania, who became totally or partially separated from employment on or after October 13, 1998, through two years from the date of this issuance, are eligible to apply for adjustment assistance under Section 223 of the Trade Act of 1974;” and

“All workers of Cooper Energy Services, Grove City, Pennsylvania, who became totally or partially separated from employment on or after October 13, 1998, through two years from the date of this issuance, are eligible to apply for NAFTA-TAA Section 250 of the Trade Act of 1974.”

Signed at Washington, DC, this 31st day of May 2000.
Grant D. Beale,
Program Manager, Division of Trade Adjustment Assistance.

[FR Doc. 00-14472 Filed 6-7-00; 8:45 am]

BILLING CODE 4510-30-M